DEPARTMENT OF THE INTERIOR

National Park Service

National Register of Historic Places; Notification of Pending Nominations and Related Actions

Nominations for the following properties being considered for listing or related actions in the National Register were received by the National Park Service before July 10, 2010. Pursuant to section 60.13 of 36 CFR part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by August 12, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Marshall County

Guntersville Post Office Building, 520 Gunter Ave., Guntersville, 10000558

CALIFORNIA

Fresno County

Fulton Mall, Inyo St to Tuolumne St, Kern and Merced Malls-Congo Alley to Federal Alley, Mariposa Mall-Congo Alley to Van Ness Ave Fresno, 10000557

MONTANA

Ravalli County

St. Mary's Mission Historic District Boundary Increase, W end of 4th St, Stevensville, 10000552

NEW YORK

Delaware County

Galli—Curci, Amelita, Estate, 352 and 374 Galli Curci Rd, Fleischmanns, 10000556

Erie County

Hotel Lafayette, 391 Washington St, Buffalo, 10000555

Hamilton County

Mohican II, Steel Pier, Lake George, 10000554

New York County

133 East 80th Street, 133 E 80th St, New York, 10000553

VIRGINIA

Accomack County

Central High School, 32308 Lankford Hwy., Painter, 10000561

Augusta County

Maple Front Farm, 439 Cale Spring Rd., Middlebrook, 10000562

Mecklenburg County

Cedar Grove, 138 Lewis Mill Rd., Clarksville, 10000560

Roanoke Independent City

Apartment Building on Windsor Avenue and Brunswick St., 2049 Windsor Ave., Roanoke (Independent City), 10000559

[FR Doc. 2010-18429 Filed 7-27-10; 8:45 am]

BILLING CODE 4312-51-P